CORPORATION FOR NATIONAL AND COMMUNITY SERVICE

Proposed New Information Collection; Comment Request

AGENCY: Corporation for National and Community Service.

ACTION: Notice.

SUMMARY: The Corporation for National and Community Service (hereinafter the “Corporation”), as part of its continuing effort to reduce paperwork and respondent burden, conducts a pre-clearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed. This proposed information collection is available in alternate formats. Individuals who use a telecommunications device for the deaf (TTY/TDD) may call (202) 606-5256 between the hours of 9:00 a.m. and 4:30 p.m. Eastern time, Monday through Friday.

Currently, the Corporation is soliciting comments concerning its request for information collection from schools, higher education institutions, and community-based organizations that have received grants through the federally-funded Learn & Serve America program. The information will be used to evaluate the effectiveness of the Learn & Serve America grants in promoting the institutionalization of service-learning activities in the funded institutions.

DATES: Written comments must be submitted to the office listed in the ADDRESSES section by January 16, 2001.

ADDRESSES: Send comments to the Corporation for National and Community Service, Attn: Mr. Charles Helfer, Office of Evaluation, 1201 New York Avenue, NW, Washington, DC, 20525.

FOR FURTHER INFORMATION CONTACT: Charles Helfer (202) 606-5000, ext. 248, or by e-mail at chelfer@cns.gov.

SUPPLEMENTARY INFORMATION: The Corporation is particularly interested in comments which:

• Evaluate whether the proposed collection of information is necessary for the proper performance of the functions of the Corporation, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

Background

The Learn and Serve America Program was established by the National and Community Service Trust Act of 1993 (Pub.L. 103-82) to support efforts in schools, higher education institutions and community-based organizations to involve young people in meaningful service to their communities while improving academic, civic, social and career-related skills. The Learn and Serve America program is administered by the Corporation and funded through grants to states, national organizations, and institutions of higher education, and through them to individual schools and school districts, community-based organizations, and colleges or universities. The first round of grants under the Learn and Serve America program were awarded in 1994. Approximately 3500 local schools, colleges, and community-based organizations receive Learn and Serve America funds each year.

One of the primary goals of the Learn and Serve America program is to promote the expansion of service-learning opportunities for school and college-aged youth through the establishment of programs that will persist beyond the life of the Learn and Serve America grant to the institution. To accomplish this, the Learn and Serve America program encourages the growth and expansion of service-learning within grant-recipient institutions through the awarding of time-limited (3 year) grants, use of matching fund requirements for the grants, and through technical assistance and training for local grantees.

The purpose of the proposed data collection is to evaluate the effectiveness of the Learn and Serve America grants in promoting the institutionalization of service-learning in the grantee institutions and the degree to which funded programs have been and are likely to be sustained after the completion of the grant period. The evaluation will examine the growth and current status of service-learning in a sample of grantees and subgrantees from two cohorts of grant recipients: those who were funded in 1994-95, the first year of Learn and Serve America funding, and those funded in a second major round of grant awards in 1997-98. The information will be used to determine whether changes need to be made in current Learn and Serve America grantmaking policies and procedures and will help the Corporation determine the need for additional strategies (such as provision of training and technical assistance) to support institutionalization among its grantees. Data collection will take place one time as part of the proposed evaluation.

Current Collection

The Corporation seeks approval of a single, multipart survey form that will be used in the evaluation of the impact of Learn and Serve America grants on the institutionalization and sustainability of service-learning in the grantee institutions.

The survey will be broken down into separate parts consisting of : Part I—Elementary and Secondary School-based Grantees; Part II—Higher Education Institutions, and Part III—Community-based Organizations. Each Part will include a Section A—short version, and a Section B—long version. The three major parts (A, B, and C) are similar in focus and content, with variations aimed at addressing specific characteristics and circumstances at each type of institution. Each part is designed to collect information on (a) the scope and purpose of the original Learn and Serve America grant; (b) growth and expansion of specific grant-related activities; (c) the current structure and scope of service-learning at the grantee institution; (d) current policies and practices supporting institutionalization of service-learning; and (e) factors that have supported or hindered the growth of service-learning at the institution, including (f) the specific role and contribution of the Learn and Serve America grant.

The survey will be administered to a random sample of approximately 540 grantee institutions that will include representation of all of the major funding streams and program types supported through Learn and Serve America. The survey will be administered through a telephone interview with a representative of each grantee institution. One half of the telephone interviews will use the short version of the survey instrument, aimed at collecting basic information on the growth and current status of service-learning activities and on current policies and practices supporting service-learning. The other half of the interviews will use the longer version of the survey with additional questions designed to elicit more detailed information on the factors that support or hinder growth of service-learning in the institution.

The paragraph below summarizes the characteristics of the proposed data collection:

Type of Review: New request.

Agency: Corporation for National and Community Service.

Title: Institutionalization of Learn and Serve America Programs.

OMB Number: None.

Agency Number: None.

Affected Public: Institutional recipients of Learn and Serve America grants: elementary and secondary schools, higher education institutions, and community-based organizations.

Total Respondents: Approximately 540.

Frequency: One time.

Average Time Per Response: 45 minutes.

Estimated Total Burden Hours: 405 hours.

Total Burden: (capital /startup): None.

Total Burden Cost: None.

Dated: November 13, 2000.
Lance Potter,
Director, Office of Evaluation.

[FR Doc. 00-29366 Filed 11-15-00; 8:45 am]

BILLING CODE 6050-28-P